DEPARTMENT OF TRANSPORTATION

Federal Aviation Administration

Notice of Intent To Prepare an Environmental Impact Statement and Hold Scoping Meetings for Washington Dulles International Airport (IAD), Chantilly, VA

AGENCY: Federal Aviation Administration, DOT.

ACTION: Notice of Intent to prepare an Environmental Impact Statement and hold two (2) public scoping meetings and one (1) Governmental and Public Agency scoping meeting.

SUMMARY: The Federal Aviation Administration (FAA) is issuing this notice to advise the public that an Environmental Impact Statement (EIS) will be prepared for development of proposed new runways, terminal facilities, and related facilities at Washington Dulles International Airport, Chantilly, Virginia. To ensure that all significant issues related to the proposed action are identified, two (2) public scoping meetings and one (1) governmental and public agency scoping meeting will be held.

FOR FURTHER INFORMATION CONTACT: Frank Smigelski, Environmental Specialist, Federal Aviation Administration, Washington Airports District Office, 23723 Air Freight Lane, Suite 210, Dulles, Virginia 20166, Phone (703) 661-1365, Fax: (703) 661-1370, e-mail Frank.Smigelski@FAA.GOV. Comments on the scope of the EIS should be submitted to the address above and must be received no later than Friday, July 12, 2002.

SUPPLEMENTARY INFORMATION: The Federal Aviation Administration will prepare an Environmental Impact Statement for development of proposed new runways, terminal facilities, and related facilities at Washington Dulles International Airport (IAD), located 26 miles west of Washington, DC in Fairfax and Loudoun Counties in Chantilly, Virginia. The EIS is being prepared in accordance with FAA Order 5050.4A, Airport Environmental Handbook, implementing the National Environmental Policy Act. IAD is a commercial service airport located within a metropolitan area and served 18 million passengers in 2001 with approximately 400,000 aircraft operations. IAD currently has three runways. Two additional runways are proposed.

The alternatives to be evaluated in the EIS include, but will not necessarily be limited to, the No-Action Alternative; the Proposed Action Alternative; and runway separation variation alternatives. Comments and suggestions are invited from Federal, state, and local agencies, and other interested parties to ensure that the full range of actions, alternatives and impacts related to the proposed development are considered and that all significant issues are identified. Written comments and suggestions concerning the scope of the EIS may be mailed to the FAA informational contact listed above and must be received no later than Friday, July 12, 2002.

Public Scoping Meetings: The FAA will hold two (2) public and one (1) governmental agency scoping meetings to solicit input from the public and various Federal, state, and local agencies which have jurisdiction by law or have specific expertise with respect to any environmental impacts associated with the proposed project. The public scoping meetings will be held Wednesday, June 26, 2002, in Fairfax County at Westfield High School, 4700 Stonecroft Blvd. Chantilly, VA and Thursday, June 27, 2002, in Loudoun County at Farmwell Station Middle School, 44281 Gloucester Pkwy, Ashburn, VA. The public meetings will be held from 5 p.m. to 8 p.m. An agency scoping meeting will be held specifically for governmental agencies on Wednesday, June 26, 2002, at the Washington Dulles Marriott, 45020 Aviation Drive, Sterling, VA. The agency meeting will be held from 1 p.m. to 3 p.m. Please confirm the meeting location and date with the FAA informational contact listed above close to the meeting date.

Issued in Chantilly, Virginia on Monday, May 13, 2002.
Terry J. Page,
Manager, Washington Airports District Office, FAA, Eastern Region.

[FR Doc. 02-12611 Filed 5-17-02; 8:45 am]

BILLING CODE 4910-13-M